DEPARTMENT OF ENERGY

Federal Energy Regulatory Commission

Combined Notice of Filings #1

Take notice that the Commission received the following electric corporate filings:

Docket Numbers: EC15-174-000.

Applicants: Biofuels Washington, LLC.

Description: Supplement to July 22, 2015 Application Under FPA Section 203 of Biofuels Washington, LLC.

Filed Date: 8/27/15.

Accession Number: 20150827-5041.

Comments Due: 5 p.m. ET 9/8/15.

Take notice that the Commission received the following electric rate filings:

Docket Numbers: ER10-2743-006; ER12-637-004; ER12-995-004; ER10-1892-006; ER10-1886-006; ER10-2793-006; ER10-2755-007; ER10-2739-010; ER10-1872-006; ER10-1859-006.

Applicants: Bluegrass Generation Company, L.L.C., Calhoun Power Company, LLC, Cherokee County Cogeneration Partners, LLC, Columbia Energy LLC, Decatur Energy Center, LLC, DeSoto County Generating Company, LLC, Las Vegas Power Company, LLC, Mobile Energy L L C, Santa Rosa Energy Center, LLC, LS Power Marketing, LLC.

Description: Supplement to December 29, 2014 Updated Market Power Analysis in Southeast Region of the LS Power Development, LLC subsidiaries.

Filed Date: 8/26/15.

Accession Number: 20150826-5236.

Comments Due: 5 p.m. ET 9/16/15.

Docket Numbers: ER15-33-001.

Applicants: The Dayton Power and Light Company.

Description: Compliance filing: FERC Rate Schedule No. 303, Village of Lakeview to be effective 1/1/2015.

Filed Date: 8/27/15.

Accession Number: 20150827-5236.

Comments Due: 5 p.m. ET 9/17/15.

Docket Numbers: ER15-553-000.

Applicants: San Diego Gas & Electric Company.

Description: Response to August 21, 2015 Deficiency Letter including Pro Forma tariff sheet of San Diego Gas & Electric Company.

Filed Date: 8/26/15.

Accession Number: 20150826-5241.

Comments Due: 5 p.m. ET 9/16/15.

Docket Numbers: ER15-1193-002.

Applicants: PJM Interconnection, L.L.C.

Description: Compliance filing: Compliance Filing per 8/4/15 Order in Docket No. ER15-1193-001 to be effective 5/1/2015.

Filed Date: 8/27/15.

Accession Number: 20150827-5226.

Comments Due: 5 p.m. ET 9/17/15.

Docket Numbers: ER15-2534-000.

Applicants: Saddleback Ridge Wind, LLC/Patriot Rene.

Description: Baseline eTariff Filing: Application for Market-Based Rate Tariff to be effective 9/14/2015.

Filed Date: 8/26/15.

Accession Number: 20150826-5212.

Comments Due: 5 p.m. ET 9/16/15.

Docket Numbers: ER15-2535-000.

Applicants: Midwest Electric Power, Inc.

Description: Baseline eTariff Filing: Application for Market-Based Rate Authorization to be effective 8/28/2015.

Filed Date: 8/27/15.

Accession Number: 20150827-5110.

Comments Due: 5 p.m. ET 9/17/15.

Docket Numbers: ER15-2536-000.

Applicants: TransAlta Centralia Generation LLC.

Description: Section 205(d) Rate Filing: Revisions to Market-Based Rate Tariff to be effective 10/27/2015.

Filed Date: 8/27/15.

Accession Number: 20150827-5146.

Comments Due: 5 p.m. ET 9/17/15.

Docket Numbers: ER15-2537-000.

Applicants: TransAlta Energy Marketing (U.S.) Inc.

Description: Section 205(d) Rate Filing: Revisions to Market-Based Rate Tariff to be effective 10/27/2015.

Filed Date: 8/27/15.

Accession Number: 20150827-5147.

Comments Due: 5 p.m. ET 9/17/15.

Docket Numbers: ER15-2538-000.

Applicants: TransAlta Energy Marketing Corporation.

Description: Section 205(d) Rate Filing: Revisions to Market-Based Rate Tariff to be effective 10/27/2015.

Filed Date: 8/27/15.

Accession Number: 20150827-5148.

Comments Due: 5 p.m. ET 9/17/15.

Docket Numbers: ER15-2539-000.

Applicants: TransAlta Wyoming Wind LLC.

Description: Section 205(d) Rate Filing: Revisions to Market-Based Rate Tariff to be effective 10/27/2015.

Filed Date: 8/27/15.

Accession Number: 20150827-5149.

Comments Due: 5 p.m. ET 9/17/15.

Docket Numbers: ER15-2540-000.

Applicants: Southwest Power Pool, Inc.

Description: Section 205(d) Rate Filing: 3038 KCP&L and AECI Interconnection Agreement to be effective 8/10/2015.

Filed Date: 8/27/15.

Accession Number: 20150827-5154.

Comments Due: 5 p.m. ET 9/17/15.

Docket Numbers: ER15-2541-000.

Applicants: Burgess Capital LLC.

Description: Baseline eTariff Filing: Initial Tariff to be effective 8/27/2015.

Filed Date: 8/27/15.

Accession Number: 20150827-5158.

Comments Due: 5 p.m. ET 9/17/15.

Docket Numbers: ER15-2542-000.

Applicants: Southwest Power Pool, Inc.

Description: Section 205(d) Rate Filing: 1276R9 KCPL NITSA NOA to be effective 8/1/2015.

Filed Date: 8/27/15.

Accession Number: 20150827-5198.

Comments Due: 5 p.m. ET 9/17/15.

Docket Numbers: ER15-2543-000.

Applicants: Southwest Power Pool, Inc.

Description: Section 205(d) Rate Filing: 1636R14 Kansas Electric Power Cooperative, Inc. NITSA and NOA to be effective 8/1/2015.

Filed Date: 8/27/15.

Accession Number: 20150827-5214.

Comments Due: 5 p.m. ET 9/17/15.

Docket Numbers: ER15-2544-000.

Applicants: R.E. Ginna Nuclear Power Plant, LLC.

Description: Section 205(d) Rate Filing: 2015 normal Aug 2 to be effective 8/27/2015.

Filed Date: 8/27/15.

Accession Number: 20150827-5250.

Comments Due: 5 p.m. ET 9/17/15.

Docket Numbers: ER15-2545-000.

Applicants: PJM Interconnection, L.L.C.

Description: Tariff Cancellation: Notice of Cancellation of Service Agreement No. 3803 (Z2-027) to be effective 8/19/2015.

Filed Date: 8/27/15.

Accession Number: 20150827-5254.

Comments Due: 5 p.m. ET 9/17/15.

Docket Numbers: ER15-2546-000.

Applicants: The Dayton Power and Light Company.

Description: Section 205(d) Rate Filing: FERC Rate Schedule No. 307, Local Delivery Service Agreement with Buckeye to be effective 8/25/2015.

Filed Date: 8/27/15.

Accession Number: 20150827-5267.

Comments Due: 5 p.m. ET 9/17/15.

Take notice that the Commission received the following electric reliability filings:

Docket Numbers: RD15-6-000.

Applicants: North American Electric Reliability Corporation.

Description: Errata to Petitions of the North American Electric Reliability Corporation for Approval of Reliability Standards BAL-003-1, COM-001-2 VAR-001-4 and Implementation Plan for Reliability Standard PRC-004-4.

Filed Date: 8/25/15.

Accession Number: 20150825-5214.

Comments Due: 5 p.m. ET 9/28/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 27, 2015.
Nathaniel J. Davis, Sr.,
Deputy Secretary.

[FR Doc. 2015-21679 Filed 9-1-15; 8:45 am]

BILLING CODE 6717-01-P